DEPARTMENT OF DEFENSE

GENERAL SERVICES ADMINISTRATION

NATIONAL AERONAUTICS AND SPACE ADMINISTRATION

[OMB Control No. 9000-00xx]

Federal Acquisition Regulation; Submission for OMB Review; Hubzone Program

AGENCY: Department of Defense (DOD), General Services Administration (GSA), and National Aeronautics and Space Administration (NASA).

ACTION: Notice of request for comments regarding a new OMB information clearance.

SUMMARY: Under the provisions of the Paperwork Reduction Act of 1995 (44 U.S.C. Chapter 35), the Federal Acquisition Regulation (FAR) Secretariat will be submitting to the Office of Management and Budget (OMB) a request to review and approve a new information collection requirement regarding Hubzone Program revisions. A request for public comments was published in the Federal Register at 74 FR 46984, on September 14, 2009. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before March 22, 2010.

FOR FURTHER INFORMATION CONTACT: Ms. Rhonda Cundiff, Procurement Analyst, Contract Policy Branch, GSA, (202) 219-1813 or e-mail Rhonda.cundiff@gsa.gov.

ADDRESSES: Submit comments regarding this burden estimate or any other aspect of this collection of information, including suggestions for reducing this burden to: FAR Desk Officer, OMB, Room 10102, NEOB, Washington, DC 20503, and a copy to the General Services Administration, Regulatory Secretariat (MVPR), 1800 F Street, NW., Room 4041, Washington, DC 20405.

SUPPLEMENTARY INFORMATION:

A. Purpose

This information collection facilitates implementation of a HUBZone Program Federal Acquisition Regulation (FAR) revision as a result of revisions to the Small Business Administration regulations. The revision to the FAR requires the HUBZone offeror to provide the Contracting Officer a copy of the notice required by 13 CFR 126.601 if material changes occur before contract award that could affect its HUBZone eligibility. This notification to the contracting officer ensures that the offeror is still eligible for the award of a HUBZone contract.

B. Annual Reporting Burden

Respondents: 8,000.

Responses per Respondent: 1.

Hours per Response: .25.

Total Burden Hours: 2,000.

Obtaining Copies of Proposals: Requester may obtain a copy of the proposal from the General Services Administration, Regulatory Secretariat (MVPR), 1800 F Street, NW., Room 4041, Washington, DC 20405, telephone (202) 501-4755. Please cite OMB Control No. 9000-00xx, Hubzone Program, in all correspondence.

Dated: February 12, 2010.
Al Matera,
Director, Acquisition Policy Division.

[FR Doc. 2010-3228 Filed 2-18-10; 8:45 am]

BILLING CODE 6820-EP-P